ENVIRONMENTAL PROTECTION AGENCY

[EPA-HQ-OPP-2004-0162; FRL-8059-2]

Napropamide and MCPA; Notice of Receipt of Requests to Amend to Terminate Uses of Napropamide and MCPA Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to amend napropamide and MCPA registrations to terminate certain uses. The requests would terminate MCPA use on rice and grain sorghum as well as terminate napropamide uses on pistachio, walnut, grapefruit, lemon, nectarine, orange, tangerine, tangelo, apricot, cherry, peach, plum, prune, apple, pear, fig, avocado, pomegranate, artichoke, and olive. The requests would not terminate the last napropamide or MCPA products registered for use in the United States. EPA intends to grant these requests at the close of the comment period for this announcement unless the Agency receives substantive comments within the comment period that would merit its further review of the requests, or unless the registrants withdraw their requests within this period. Upon acceptance of these requests, any sale, distribution, or use of products listed in this notice will be permitted only if such sale, distribution, or use is consistent with the terms as described in the final order.

DATES: Comments must be received on or before May 26, 2006.

ADDRESSES: Submit your comments, identified by docket identification (ID) number EPA-HQ-OPP-2004-0162, by one of the following methods:

• Federal eRulemaking Portal: http://www.regulations.gov. Follow the on-line instructions for submitting comments.

• Mail: Office of Pesticide Programs (OPP) Regulatory Public Docket (7502C), Environmental Protection Agency, 1200 Pennsylvania Ave., NW., Washington, DC 20460-0001.

• Hand Delivery: OPP Regulatory Public Docket, Environmental Protection Agency, Rm. 119, Crystal Mall #2, 1801 S. Bell St., Arlington, VA. Deliveries are only accepted during the Docket's normal hours of operation (8:30 a.m. to 4 p.m., Monday through Friday, excluding legal holidays). Special arrangements should be made for deliveries of boxed information. The Docket telephone number is (703) 305-5805.

• Important Note: OPP will be moving to a new location the first week of May 2006. As a result, from Friday, April 28 to Friday, May 5, 2006, the OPP Regulatory Public Docket will NOT be accepting any deliveries at the Crystal Mall #2 address and this facility will be closed to the public. Beginning on May 8, 2006, the OPP Regulatory Public Docket will reopen at 8:30 a.m. and deliveries will be accepted in Rm. S-4400, One Potomac Yard (South Building), 2777 S. Crystal Drive, Arlington, VA 22202. The mail code for the mailing address will change to (7502P), but will otherwise remain the same. The OPP Regulatory Public Docket telephone number and hours of operation will remain the same after the move.

Instructions: Direct your comments to docket ID number EPA-HQ-OPP-2004-0162. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available in the electronic docket at http://www.regulations.gov, or, if only available in hard copy, at the OPP Regulatory Public Docket at the location identified under “Delivery” and “Important Note.” The hours of operation for this docket facility are from 8:30 a.m. to 4 p.m., Monday through Friday, excluding legal holidays. The docket telephone number is (703) 305-5805.

FOR FURTHER INFORMATION CONTACT: For napropamide: Demson Fuller, Special Review and Reregistration Division (7508C), Office of Pesticide Programs, Environmental Protection Agency, 1200 Pennsylvania Ave., NW., Washington, DC 20460-0001; telephone number: (703) 308-8062, fax number: (703) 308-8041; e-mail address: fuller.demson@epa.gov.

For MCPA: Kelly Sherman, Special Review and Reregistration Division (7508C), Office of Pesticide Programs, Environmental Protection Agency, 1200 Pennsylvania Ave., NW., Washington, DC 20460-0001; telephone number: (703) 305-8401; fax: (703) 308-8041; e-mail address: sherman.kelly@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through www.regulations.gov or e-mail. Clearly mark the part or all of the information that you claim to be CBI. For CBI information in a disk or CD ROM that you mail to EPA, mark the outside of the disk or CD ROM as CBI and then identify electronically within the disk or CD ROM the specific information that is claimed as CBI). In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

II. Background on the Receipt of Requests to Amend Registrations to Delete Uses

This notice announces receipt by EPA of a request dated September 30, 2005 from registrant United Phosphorus, Inc., to terminate certain uses of the following napropamide products: 70506-31, 70506-33, 70506-34, 70506-35, 70506-36, 70506-37, 70506-38, 70506-39, 70506-63, and 70506-64. Napropamide is an herbicide used to control broadleaf weeds and grasses on various fruit and vegetable crops. Specifically, United Phosphorus, Inc. requests use deletions of pistachio, walnut, grapefruit, lemon, nectarine, orange, tangerine, tangelo, apricot, cherry, peach, plum, prune, apple, pear, fig, avocado, pomegranate, artichoke, and olive. These use deletions will not terminate the last pesticide product registered for these uses in the United States. For additional information, refer to http://www.regulations.gov with the napropamide legacy docket number: OPP-2004-0162; (69 FR 52261, August 25, 2004) (FRL-7370-9).

This notice also announces receipt by EPA of requests dated August 30, 2004, August 31, 2004, and March 10, 2006 from the MCPA Task Force Three on behalf of registrants Nufarm Limited, Nufarm UK Limited, Nufarm BV, Nufarm Platte Pty Ltd., A.H. Marks &Co. Ltd., and Dow Agrosciences LLC to terminate certain uses of the following MCPA products: 11685-13, 11685-14, 11685-22, 15440-7, 35935-8, 35935-9, 62719-60, 67591-2, 70596-1, 11685-15, 11685-24, 15440-9, and 62719-64. MCPA is an herbicide used to control broadleaf weeds on various grains and grasses. Specifically, the MCPA Task Force Three requests termination of MCPA use on rice and grain sorghum. These use deletions will not terminate the last pesticide product registered in the United States for these uses. For additional information, refer to www.regulations.gov with the MCPA legacy docket number: OPP-2004-0156; (69 FR 35017, June 23, 2004) (FRL-7365-6).

III. What Action is the Agency Taking?

This notice announces receipt by EPA of requests from several registrants to delete certain uses of napropamide and MCPA product registrations. The affected registrations and the registrants making the requests are identified in Tables 1-3 of this unit.

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation or use termination. In addition, section 6(f)(1)(C) of FIFRA requires that EPA provide a 180-day comment period on a request for voluntary cancellation or termination of any minor agricultural use before granting the request, unless:

1. The registrants request a waiver of the comment period, or

2. The Administrator determines that continued use of the pesticide would pose an unreasonable adverse effect on the environment.

The napropamide and MCPA registrants have requested that EPA waive the 180-day comment period. EPA will provide a 30-day comment period on the proposed requests.

Unless a request is withdrawn by a registrant within 30 days of publication of this notice in the Federal Register, or the Agency determines that there are substantive comments that warrant further review of this request, an order will be issued amending the affected registrations.

Table 1.—Napropamide Product Registrations with Pending Requests for Amendment
Registration No. | Product name | Company | Use Sites
70506-31 | Devrinol 4-F Selective Herbicide Flowable | United Phosphorus, Inc. | Pistachio, walnut, grapefruit, lemon, nectarine, orange, tangerine, tangelo, apricot, cherry, peach, plum, prune, apple, pear, fig, avocado, pomegranate, artichoke, and olive
70506-33 | Devrinol 2-G Ornamental Selective Herbicide | Do. | Do.
70506-34 | Devrinol 10-G Selective Herbicide | Do. | Do.
70506-35 | Devrinol Technical Selective Herbicide | Do. | Do.
70506-36 | Devrinol 50 DF Selective Herbicide | Do. | Do.
70506-37 | Devrinol 4-F Ornamental Selective Herbicide | Do. | Do.
70506-38 | Devrinol 50-DF Ornamental Herbicide | Do. | Do.
70506-39 | Devrinol Lawn and Ornamental Selective Herbicide | Do. | Do.

Table 2.—MCPA Product Registrations with Pending Requests for Amendment
Registration No. | Product name | Company | Use Sites
11685-13 | MCPA Technical Acid | Nufarm UK Limited | Rice and grain sorghum
11685-14 | MCPA Technical Acid | Do. | Do.
11685-22 | U-46 MCPA Acid | Do. | Do.
11685-15 | Technical MCPA IOE | Do. | Do.
11685-24 | Riverdale Technical MCPA IOE | Do. | Do.
15440-7 | Technical MCPA Acid | A.H. Marks &Co. Limited | Do.
15440-9 | Technical 2-Ethylhexyl Ester of MCPA | A.H. Marks &Co. Limited | Do.
35935-8 | MCPA Technical Acid | Nufarm Limited | Do.
62719-64 | MCPA 2-Ethylhexyl Ester Technical | Dow Agrosciences LLC | Do.
62719-60 | MCPA Acid Technical | Dow Agrosciences LLC | Do.

Table 2.—MCPA Product Registrations with Pending Requests for Amendment—Continued
Registration No. | Product name | Company | Use Sites
67591-2 | MCPA Acid | Nufarm Platte Pty Ltd | Do.
70596-1 | MCPA (Technical Grade) | Nufarm BV | Do.

Table 3 of this unit includes the names and addresses of record for the registrants of the products listed in Tables 1 and 2 of this unit.

Table 3.—Registrants Requesting Voluntary Cancellation or Amendments
EPA Company No. | Company name and address
70506 | United Phosphorus Inc. 423 Riverview Plaza Trenton, NJ 08611
11685 | Nufarm UK Limited PMB 239, 7474 Creedmoor Road Raleigh, NC 27613
15440 | A.H. Marks &Co. Limited PMB 239, 7474 Creedmoor Road Raleigh, NC 27613
35935 | Nufarm Limited PMB 239, 7474 Creedmoor Road Raleigh, NC 27613
62719 | Dow Agrosciences LLC PMB 239, 7474 Creedmoor Road Raleigh, NC 27613
70596 | Nufarm BV PMB 239, 7474 Creedmoor Road Raleigh, NC 27613
67591 | Nufarm Platte Pty Ltd PMB 239, 7474 Creedmoor Road Raleigh, NC 27613

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

V. Procedures for Withdrawal of Request and Considerations for Reregistration of Napropamide or MCPA

Registrants who choose to withdraw a request for cancellation must submit such withdrawal in writing to the person listed under FOR FURTHER INFORMATION CONTACT, postmarked before May 26, 2006. This written withdrawal of the request for cancellation will apply only to the applicable FIFRA section 6(f)(1) request listed in this notice. If the products have been subject to a previous cancellation action, the effective date of cancellation and all other provisions of any earlier cancellation action are controlling.

VI. Provisions for Disposition of Existing Stocks

Existing stocks are those stocks of registered pesticide products which are currently in the United States and which were packaged, labeled, and released for shipment prior to the effective date of the cancellation action.

If the request for voluntary cancellation or use termination is granted as discussed above, the Agency intends to issue a cancellation order that will allow persons other than the registrant to continue to sell and/or use existing stocks of cancelled products until such stocks are exhausted, provided that such use is consistent with the terms of the previously approved labeling on, or that accompanied, the cancelled product. The order will specifically prohibit any use of existing stocks that is not consistent with such previously approved labeling. If, as the Agency currently intends, the final cancellation order contains the existing stocks provision just described, the order will be sent only to the affected registrants of the cancelled products. If the Agency determines that the final cancellation order should contain existing stocks provisions different than the ones just described, the Agency will publish the cancellation order in the Federal Register.

List of Subjects

Environmental protection, Pesticides and pests.

Dated: April 19, 2006.
Debra Edwards,
Director, Special Review and Reregistration Division, Office of Pesticide Programs.

[FR Doc. E6-6302 Filed 4-25-06; 8:45 am]

BILLING CODE 6560-50-S